DEPARTMENT OF THE TREASURY

Office of Thrift Supervision

12 CFR Parts 558, 563, 564, 567, and 574

[OTS No. 2007-0025]

Technical Amendments

AGENCY: Office of Thrift Supervision, Treasury.

ACTION: Final rule.

SUMMARY: The Office of Thrift Supervision (OTS) is amending its regulations to incorporate a number of technical and conforming amendments. They include clarifications and corrections of typographical errors.

DATES: Effective Date: January 2, 2008.

FOR FURTHER INFORMATION CONTACT: Sandra E. Evans, Legal Information Assistant (Regulations), (202) 906-6076, Regulations and Legislation Division, Chief Counsel's Office, Office of Thrift Supervision, 1700 G Street, NW., Washington, DC 20552.

SUPPLEMENTARY INFORMATION: OTS is amending its regulations to incorporate a number of technical and conforming amendments. OTS is making the following miscellaneous changes:

• Sections 558.1 and 558.2—Procedure upon taking possession; notice of appointment. OTS's regulations at 12 CFR 558.1 provides that when OTS appoints a conservator or receiver, the conservator or receiver shall, upon taking possession of the institution: (1) Give notice of the appointment to any officer or employee of the institution who appears to be in charge at the institution's principal office, and (2) serve a copy of the order of appointment upon the savings association or an existing conservator or receiver by leaving a copy of the order at the principal office or by handing a copy of the order to specified persons. This final rule modifies §§ 558.1 and 558.2 to increase administrative flexibility by providing that the Director of OTS will designate those persons or entities that will give notice and make service. In addition, reference to service on prior receivers is eliminated because the OTS may appoint only the Federal Deposit Insurance Corporation as a receiver of a savings association.

• Section 563.43—Loans by savings associations to their executive officers, directors and principal shareholders. The final rule revises the introductory paragraph to remove the reference to subparts A and B of the Federal Reserve Board's Regulation O (12 CFR Part 215) as Regulation O is no longer divided into subparts. The introductory paragraph is also revised to remove the reference to § 215.13 since that section no longer exists.

• Section 564.8—Appraisal policies and practices of savings associations and subsidiaries. The incorrect reference to § 563.172 in paragraph (a) “Introduction” is removed.

• Section 567.5—Components of capital. Section 567.5(b)(1)(iv), which refers to net worth certificates, and section 567.5(b)(1)(v), which refers to income capital certificates, are obsolete and are removed. All of these certificates have been redeemed and no longer exist.

• Section 567.12—Intangible assets, servicing assets, and credit-enhancing interest-only strips. The practice of grandfathering core deposit intangibles (CDIs) is no longer relevant because all CDIs were fully amortized as of 2002. Therefore, § 567.12(g) is removed.

• Section 574.2(c)(3)—Definitions. The cross-reference to § 563b.2(a)(39) is corrected by replacing it with a cross-reference to § 563b.25.

Administrative Procedure Act; Riegle Community Development and Regulatory Improvement Act of 1994

OTS finds that there is good cause to dispense with prior notice and comment on this final rule and with the 30-day delay of effective date mandated by the Administrative Procedure Act.¹ OTS believes that these procedures are unnecessary and contrary to the public interest because the rule merely makes changes to agency procedures and technical changes to existing provisions. Because the amendments in the rule are not substantive, these changes will not affect savings associations.

¹ 5 U.S.C. 553.

Section 302 of the Riegle Community Development and Regulatory Improvement Act of 1994 provides that regulations that impose additional reporting, disclosure, or other new requirements may not take effect before the first day of the quarter following publication.² This section does not apply because this final rule imposes no additional requirements and makes only technical changes to existing regulations.

² Pub. L. 103-325, 12 U.S.C. 4802.

Regulatory Flexibility Act

Pursuant to section 605(b) of the Regulatory Flexibility Act,³ the OTS Director certifies that this technical corrections regulation will not have a significant economic impact on a substantial number of small entities.

³ Pub. L. 96-354, 5 U.S.C. 601.

Executive Order 12866

OTS has determined that this rule is not a “significant regulatory action” for purposes of Executive Order 12866.

Unfunded Mandates Reform Act of 1995

OTS has determined that the requirements of this final rule will not result in expenditures by State, local, and tribal governments, or by the private sector, of $100 million or more in any one year. Accordingly, a budgetary impact statement is not required under section 202 of the Unfunded Mandates Reform Act of 1995.

List of Subjects

12 CFR Part 558

Savings associations.

12 CFR Part 563

Accounting, Administrative practice and procedure, Advertising, Conflict of interests, Crime, Currency, Holding companies, Investments, Mortgages, Reporting and recordkeeping requirements, Savings associations, Securities, Surety bonds.

12 CFR Part 564

Mortgages, Reporting and recordkeeping requirements, Savings associations.

12 CFR Part 567

Reporting and recordkeeping requirements, Savings associations.

12 CFR Part 574

Administrative practice and procedure, Holding companies, Reporting and recordkeeping requirements, Savings associations, Securities.

Accordingly, the Office of Thrift Supervision amends title 12, chapter V of the Code of Federal Regulations, as set forth below.

PART 558—POSSESSION BY CONSERVATORS AND RECEIVERS FOR FEDERAL AND STATE SAVINGS ASSOCIATIONS

1. The authority citation for part 558 continues to read as follows:

Authority: 12 U.S.C. 1462, 1462a 1463, 1464, 1467a.

2. Amend § 558.1 by removing paragraphs (b)(1) and (b)(2) and redesignating paragraphs (b)(3) through (b)(7) as paragraphs (b)(1) through (b)(5).

3. Revise § 558.2 to read as follows:

§ 558.2 Notice of appointment.

(a) When the Director of OTS issues an order for the appointment of a conservator or receiver, the Director will designate the persons or entities whose employees or agents must, before the conservator or receiver takes possession of the savings association:

(1) Give notice of the appointment to any officer or employee who is present in and appears to be in charge at the principal office of the savings association as determined by OTS.

(2) Serve a copy of the order for the appointment upon the savings association or upon the conservator by:

(i) Leaving a certified copy of the order of appointment at the principal office of the savings association as determined by OTS; or

(ii) Handing a certified copy of the order of appointment to the previous conservator of the savings association, or to the officer or employee of the savings association, or to the previous conservator who is present in and appears to be in charge at the principal office of the savings association as determined by OTS. [?USGPO Galley End:?]

(3) File with the Secretary of OTS a statement that includes the date and time that notice of the appointment was given and service of the order of appointment was made.

(b) If the Director of OTS appoints a conservator or receiver under this part, OTS will immediately file a notice of the appointment for publication in the Federal Register.

PART 563—SAVINGS ASSOCIATIONS—OPERATIONS

4. The authority citation for part 563 continues to read as follows:

Authority: 12 U.S.C. 375b, 1462, 1462a, 1463, 1464, 1467a, 1468, 1817, 1820, 1828, 1831o, 3806; 31 U.S.C. 5318; 42 U.S.C. 4106.

§ 563.43 [Amended]

5. Amend the introductory paragraph of § 563.43 by removing “12 CFR Part 215, subparts A and B of the Federal Reserve Board's Regulation O, with the exception of 12 CFR 215.13,” and adding “the Federal Reserve Board's Regulation O (12 CFR Part 215),” in its place.

PART 564—APPRAISALS

6. The authority citation for Part 564 continues to read as follows:

Authority: 12 U.S.C. 1462, 1462a, 1463, 1464, 1828(m), 3331 et seq.

§ 564.8 [Amended]

7. Amend § 564.8(a) by removing “§§ 563.170 and 563.172 of this part” and adding “§ 563.170 of this chapter” in its place.

PART 567—CAPITAL

8. The authority citation for Part 567 continues to read as follows:

Authority: 12 U.S.C. 1462, 1462a, 1463, 1464, 1467a, 1828 (note).

§ 567.5 [Amended]

9. Amend § 567.5 by removing paragraphs (b)(1)(iv) and (v) and redesignating paragraphs (b)(1)(vi) and (vii) as paragraphs (b)(1)(iv) and (v).

§ 567.12 [Amended]

10. Amend § 567.12 by removing paragraph (g) and redesignating paragraph (h) as paragraph (g).

PART 574—ACQUISITION OF CONTROL OF SAVINGS ASSOCIATIONS

11. The authority citation for Part 574 continues to read as follows:

Authority: 12 U.S.C. 1467a, 1817, 1831i.

§ 574.2 [Amended]

12. Amend § 574.2(c)(3) by removing “§ 563b.2(a)(39)” and adding “§ 563b.25 of this chapter” in its place.

Dated: December 19, 2007.
By the Office of Thrift Supervision.
John M. Reich,
Director.

[FR Doc. E7-25000 Filed 12-31-07; 8:45 am]

BILLING CODE 6720-01-P[?USGPO Galley End:?]